FEDERAL COMMUNICATIONS COMMISSION

[DA 01-1289]

Low Power Television Auction No. 81—Mutually Exclusive Proposals—60-Day Settlement Window Ending July 24, 2001

AGENCY: Federal Communications Commission.

ACTION: Notice.

SUMMARY: This document identified those proposals filed during the limited low power television/television translator/Class A television auction filing window that are mutually exclusive and announces a 60-day settlement window ending July 24, 2001.

DATES: Settlements must be submitted by July 24, 2001.

ADDRESSES: To submit a settlement, parties must send the requisite paperwork identified in the Public Notice to: Office of the Secretary, Federal Communications Commission, 445 Twelfth Street, SW., Room TW-A325, Washington, DC 20054. In addition, it is requested that a courtesy copy of all such filings be delivered to Shaun Maher, Video Services Division, Mass Media Bureau, Federal Communications Commission, 445 12th Street, SW., Room 2-A820, Washington, DC 20554.

FOR FURTHER INFORMATION CONTACT: Shaun Maher, Video Services Division, Mass Media Bureau at (202) 418-1600.

SUPPLEMENTARY INFORMATION: This is a summary of a Public Notice released May 25, 2001. It does not include the attachment. The complete text of the Public Notice, including attachment, is available for public inspection and copying during normal business hours in the FCC Reference Center (Room CY-A257), 445 12th Street, SW., Washington, DC. It may also be purchased from the Commission's copy contractor, International Transcription Services, Inc. (ITS, Inc.) 1231 20th Street, NW, Washington, DC 20035, (202) 857-3800. It is also available on the Commission's web site at http://www.fcc.gov.

In this Public Notice, the Mass Media Bureau identifies those proposals filed during the limited low power television, television translator, and Class A television auction filing window that are mutually exclusive. Parties have until July 24, 2001, to file a settlement if they desire to avoid going to auction.

Federal Communications Commission.
Robert H. Ratcliffe,
Deputy Chief, Mass Media Bureau.

[FR Doc. 01-15315 Filed 6-15-01; 8:45 am]

BILLING CODE 6712-01-P